DEPARTMENT OF THE INTERIOR

Bureau of Land Management

[L58820000.PH0000.LXRSMA990000; HAG 10-0198]

Meeting Notice for the Medford District Resource Advisory Council

AGENCY: Bureau of Land Management, Interior.

ACTION: Meeting notice for the Medford District Resource Advisory Council.

SUMMARY: Pursuant to the Federal Land Policy and Management Act and the Federal Advisory Committee Act, the U.S. Department of the Interior, Bureau of Land Management (BLM) Medford District Resource Advisory Council (Medford RAC) will meet as indicated below:

DATES: The Medford RAC meeting will begin 8:30 a.m. PDT on April 21, 2010.

ADDRESSES: The Medford RAC will meet at the Medford Interagency Office, 3040 Biddle Road in Medford, Oregon.

FOR FURTHER INFORMATION CONTACT: Jim Whittington, Medford District Public Affairs Officer, 3040 Biddle Road, Medford, OR 97504 or via phone at 541-618-2220 or via electronic mail at jim_whittington@blm.gov.

SUPPLEMENTARY INFORMATION: The meeting agenda includes decisions on Title II project submissions and other matters as may reasonably come before the council. The public is welcome to attend all portions of the meeting and may make oral comments to the Council at 9:30 a.m. on April 21, 2010 at the meeting location. Those who verbally address the Medford RAC are asked to provide a written statement of their comments or presentation. Unless otherwise approved by the RAC Chair, the public comment period will last no longer than 30 minutes, and each speaker may address the RAC for a maximum of three minutes. If reasonable accommodation is required, please contact the BLM's Medford District Public Affairs Officer at 541-618-2220 as soon as possible.

Timothy B. Reuwsaat,
District Manager, Medford District Office.

[FR Doc. 2010-7376 Filed 3-31-10; 8:45 am]

BILLING CODE 4310-33-P